DEPARTMENT OF HOMELAND SECURITY

Federal Emergency Management Agency

[Docket ID: FEMA-2009-0001; OMB No. 1660-0098]

Agency Information Collection Activities: Submission for OMB Review; Comment Request

AGENCY: Federal Emergency Management Agency, DHS.

ACTION: Notice; 30-day notice and request for comments; revision of a currently approved information collection; OMB No. 1660-0098; FEMA Form 646, Citizen Corps Council Registration.

SUMMARY: The Federal Emergency Management Agency (FEMA) has submitted the information collection abstracted below to the Office of Management and Budget for review and clearance in accordance with the requirements of the Paperwork Reduction Act of 1995. The submission describes the nature of the information collection, the categories of respondents, the estimated burden (i.e., the time, effort and resources used by respondents to respond) and cost, and the actual data collection instruments FEMA will use.

DATES: Comments must be submitted on or before November 23, 2009.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Office of Records Management, 1800 South Bell Street, Arlington, VA 20598-3005, facsimile number (202) 646-3347, or e-mail address FEMA-Information-Collections@dhs.gov.

SUPPLEMENTARY INFORMATION:

Collection of Information

Title: Citizen Corps Council Registration.

Type of information collection: Revision of a currently approved information collection.

OMB Number: OMB No. 1660-0098.

Form Titles and Numbers: FEMA Form 646, Citizen Corps Council Registration.

Abstract: FEMA's Community Preparedness Division would like to revise a currently approved collection for its registration of State, local, Tribal and territorial Councils and Community Emergency Response Teams. The registration process allows for new Councils to submit information on the Council or CERT to the State Citizen Corps Program Manager for approval. The revised registration process will allow for the collection of more valuable information and the tool is more user-friendly for Citizen Corps Councils and CERT's.

Affected Public: State, local or Tribal Government.

Estimated Number of Respondents: 5,759.

Frequency of Response: Semi-annually.

Estimated Average Hour Burden per Respondent: 2.

Estimated Total Annual Burden Hours: 11,518 burden hours.

Estimated Cost: None.

Daisy Mitchell,
Acting Director, Records Management Division, Office of Management, Federal Emergency Management Agency, Department of Homeland Security.

[FR Doc. E9-25380 Filed 10-21-09; 8:45 am]

BILLING CODE 9111-05-P